DEPARTMENT OF AGRICULTURE

Forest Service

Madera County Resource Advisory Committee

AGENCY: Forest Service, USDA.

ACTION: Notice of Resource Advisory Committee meeting.

SUMMARY: Pursuant to the authorities in the Federal Advisory Committee Act of 1972 (Pub. L. 92-463) and under the secure Rural Schools and Community Self-Determination Act of 2000 (Pub. L. 106-393) the Sierra National Forest's Resource Advisory Committee for Madera County will meet on Monday, February 16, 2004. The Madera Resource Advisory Committee will meet at the Yosemite Bank, Oakhurst, CA. The purpose of the meeting is: Review RAC process for accepting/reviewing proposals, review progress of FY 2002 accounting, monitoring and evaluation, Arrowhead presentation, and review Sierra Business Council book.

DATES: The Madera Resource Advisory Committee meeting will be held Monday, February 16, 2004. The meeting will be held from 7 p.m. to 9 p.m.

ADDRESSES: The Madera County RAC meeting will be held at the Yosemite Bank, 40061 Highway 40, Oakhurst, CA 93643.

FOR FURTHER INFORMATION CONTACT: Dave Martin, U.S.D.A., Sierra National Forest, Bass Lake Ranger District, 57003 Road 225, North Fork, CA 93643; (559) 877-2218 ext. 3100; e-mail: dmartin05@fs.fed.us.

SUPPLEMENTARY INFORMATION: Agenda items to be covered include: (1) Review RAC process for accepting/reviewing proposals, (2) review progress of FY 2002 accounting, (3) monitoring and evaluation, (4) Arrowhead presentation, and (5) review of Sierra Business Council book. Public input opportunity will be provided and individuals will have the opportunity to address the Committee at that time.

Dated: January 28, 2004.
David W. Martin,
District Ranger.

[FR Doc. 04-2244 Filed 2-3-04; 8:45 am]

BILLING CODE 3410-11-M